FEDERAL RESERVE SYSTEM

Agency Information Collection Activities: Proposed Collection; Comment Request

AGENCY: Board of Governors of the Federal Reserve System.

SUMMARY:

Background

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposal

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before June 19, 2001.

ADDRESSES: Comments, which should refer to the OMB control number or agency form number, should be addressed to Jennifer J. Johnson, Secretary, Board of Governors of the Federal Reserve System, 20th and C Streets, NW., Washington, DC 20551, or mailed electronically to regs.comments@federalreserve.gov. Comments addressed to Ms. Johnson may be delivered to the Board's mailroom between 8:45 a.m. and 5:15 p.m., and to the security control room outside of those hours. Both the mailroom and the security control room are accessible from the courtyard entrance on 20th Street between Constitution Avenue and C Street, NW. Comments received may be inspected in room M-P-500 between 9 a.m. and 5 p.m., except as provided in section 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Federal Reserve Board Clearance Officer (202-452-3829), Division of Research and Statistics, Board of Governors of the Federal Reserve System, Washington, DC 20551. Telecommunications Device for the Deaf (TDD) users may contact Capria Mitchell (202) 872-4984, Board of Governors of the Federal Reserve System, Washington, DC 20551.

Discontinuation of the Following Report

Report title: Annual Survey of Eligible Bankers Acceptances.

Agency form number: FR 2006.

OMB control number: 7100-0055.

Frequency: Annual.

Reporters: U.S. commercial banks, U.S. branches and agencies of foreign banks, and Edge and agreement corporations with significant issuance of U.S dollar-denominated acceptances.

Annual reporting hours: 27 hours.

Estimated average hours per response: 0.65 hours.

Number of respondents: 41.

Small businesses are not affected.

General description of report: The Board's Legal Division has previously determined that the FR 2006 is authorized by law (12 U.S.C. 248(a), 625, and 3105(b)) and is voluntary. Individual respondent data are regarded as confidential under the Freedom of Information Act (5 U.S.C. 522(b)(4)).

Abstract: This voluntary survey provides detailed information on eligible U.S. dollar acceptances that are payable in the United States. The data have been used at the Board in constructing the monetary and credit aggregates, in constructing the domestic nonfinancial debt aggregate monitored by the Federal Open Market Committee (FOMC), and in calculating short- and intermediate-term business credit.

Current actions: The Federal Reserve proposes to discontinue the FR 2006 report. The usefulness of the report has declined in recent years due to three factors: (1) In December 1998 the Board stopped calculating L, the monetary aggregate that contained bankers acceptances (BAs); (2) Board staff has replaced the FR 2006 with the Consolidated Reports of Condition and Income as the source of BAs for calculating the debt aggregate; and (3) The relatively small size of the BA market at present has called into question the need for this survey. As a result, Board staff feels that estimates of BAs derived from the Call Report can be used in calculating short- and intermediate-term business credit.

Board of Governors of the Federal Reserve System, April 16, 2001.
Jennifer J. Johnson,
Secretary of the Board.

[FR Doc. 01-9798 Filed 4-19-01; 8:45 am]

BILLING CODE 6210-01-P